DEPARTMENT OF THE INTERIOR

Management Plan/Special Resource Study/Abbreviated Final Environmental Impact Statement Shenandoah Valley Battlefields National Historic District, VA

AGENCIES: Shenandoah Valley Battlefields National Historic District Commission and National Park Service; Department of the Interior.

ACTION: Notice of availability.

Notice: Pursuant to section 102(2)(c) of the National Environmental Policy Act of 1969, the Shenandoah Valley Battlefields National Historic District Commission and the National Park Service announce the availability of a Management Plan/Special Resource Study/Abbreviated Final Environmental Impact Statement (Plan/SRS/EIS) for the Shenandoah Valley Battlefields National Historic District.

A 30-day no-action period will follow the Environmental Protection Agency's notice of availability of the Plan/SRS/FEIS.

FOR FURTHER INFORMATION CONTACT: Shenandoah Valley Battlefields NHD Commission, P.O. Box 897, 8895 Collins Drive, New Market, VA 22844, (888) 689-4545.

Dated: August 10, 2000.
Marie Rust,
Northeast Regional Director, National Park Service Director.

[FR Doc. 00-20935 Filed 8-16-00; 8:45 am]

BILLING CODE 4310-70-M